SMALL BUSINESS ADMINISTRATION

[Disaster Declaration #11789 and #11790]

Alabama Disaster Number AL-00023

AGENCY: U.S. Small Business Administration.

ACTION: Amendment 1.

SUMMARY: This is an amendment of the Presidential declaration of a major disaster for the State of Alabama (FEMA-1842-DR), dated 06/19/2009.

Incident: Severe Storms, Tornadoes, Flooding, and Straight-line Winds.

Incident Period: 05/06/2009 through 05/08/2009.

DATES: Effective Date: 06/25/2009.

Physical Loan Application Deadline Date: 08/18/2009.

EIDL Loan Application Deadline Date: 03/19/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of ALABAMA, dated 06/19/2009 is hereby amended to include the following areas as adversely affected by the disaster:

Primary Counties:

(Physical Damage and Economic Injury Loans): Bullock.

Contiguous Counties:

(Economic Injury Loans Only): Alabama, Barbour, Russell.

All other information in the original declaration remains unchanged.

(Catalog of Federal Domestic Assistance Numbers 59002 and 59008)

James E. Rivera,
Acting Associate Administrator for Disaster Assistance.

[FR Doc. E9-15716 Filed 7-2-09; 8:45 am]

BILLING CODE 8025-01-P